DEPARTMENT OF LABOR

Employment and Training Administration

Employment and Training (ETA) Program Year (PY) 2025 Workforce Innovation and Opportunity Act (WIOA) Section 166, Indian and Native American Programs Grantee Allotments

AGENCY: Employment and Training Administration, Labor.

ACTION: Notice.

SUMMARY: This notice announces allotments for PY 2025 for the Indian and Native American (INA) Programs.

DATES: The PY 2025 INA Program allotments become effective for the grant period that begins July 1, 2025. Written comments on this notice are invited and must be received by July 23, 2025.

ADDRESSES: Comments are accepted via email to DINAP@dol.gov. Please enter “PY25 Indian and Native American Program Allotments Public Comment” in the subject line of the email.

FOR FURTHER INFORMATION CONTACT: Stephanie West, Unit Chief in ETA Office of Workforce Investment's Division of Indian and Native American Programs, at 202-693-3021 (this is not a toll-free number). For persons with a hearing or speech disability who need assistance to use the telephone system, please dial 711 to access telecommunications relay services.

SUPPLEMENTARY INFORMATION: This notice is published pursuant to Section 182(d) of the WIOA, Prompt Allotment of Funds. The Department is announcing PY 2025 allotments for the INA Program. This notice provides information on the amount of funds available during PY 2025 to federally recognized Tribes, Tribal controlled non-profit organizations, and Tribal consortiums awarded through the PY 2022 Funding Opportunity Announcement (FOA) for the INA Program workforce development grants. On March 15, 2025, the Full-Year Continuing Appropriations and Extensions Act, 2025 Public Law 119-4 was signed into law (“the Act”). The Act appropriates $60,000,000 for the WIOA Section 166 INA Comprehensive Services Program (CSP). Of this amount, $600,000 will be set-aside for compliance training pursuant to 20 CFR 684.270(e). Therefore, the total amount available for the INA CSP is $59,400,000. This amount will be allocated to INA Program grantees using the formula at 20 CFR 684.270(b).

Section 127(b)(1)(A) of the Act also authorizes up to 1½ percent of the allotment to states for youth workforce investment activities to be reserved for Native American youth activities. For PY 2025 the appropriation for WIOA Youth state activities is $948,130,000. After reducing the appropriation by $10,230,000 for set asides authorized by the Act and reserving $925,200 for Migrant and Seasonal Farmworker Youth, 1½ percent of $936,974,800 is available for Native American youth activities known as the Supplemental Youth Services Program (SYSP). Accordingly, $14,054,622 is available for the PY 2025 SYSP and will be allotted to INA Program grantees to provide supplemental services to low-income Native American youth on or near Indian reservations and in Oklahoma, Alaska, and Hawaii. ETA will allocate SYSP funds to WIOA INA Program grantees using the formula described in the WIOA regulations at 20 CFR 684.440.

Description of Data Files and Allotment Formula. In PY 2024, the data source to calculate the INA Program annual funding formula was updated from the 2000 Decennial Census Data to the 5-year (2014-2018) American Community Survey (ACS) data for American Indian, Alaska Native, and Native Hawaiians unemployment and poverty data. The WIOA Final Rule at 20 CFR 684.270(b)(3) states that data and definitions used to implement the funding formula are provided by the U.S. Census Bureau. Using these updated data allows the Department to allocate resources more effectively and design programs that are responsive to the changing needs of the community regarding demographic trends, economic conditions, and other factors. The change in unemployment and poverty counts from the 2000 decennial Census to the 2014-2018 ACS is available at: https://www.dol.gov/agencies/eta/dinap/census. In PY 2025, ETA is continuing to use those updated ACS data.

The INA Program funding allotment formula (20 CFR 684.270(b)) states that each INA Program grantee will receive the sum of funds calculated using the following: (1) One-quarter of the funding available will be allocated on the basis of the number of unemployed American Indian, Alaska Native, and Native Hawaiian individuals in the grantee's geographic service area(s) compared to all such unemployed persons in the United States; and (2) Three-quarters of the funding available will be allocated on the basis of the number of American Indian, Alaska Native, and Native Hawaiian individuals in poverty in the grantee's geographic service area(s) as compared to all such persons in poverty in the United States.

Description of the Hold-Harmless Provision. To minimize program disruptions, and pursuant to WIOA 20 CFR 684.270(c), ETA continues to implement a three-year phase-in or “hold-harmless” methodology to adjust funding allotments resulting from use of the updated population data in the funding formula. The phase-in of updated Census data will prevent drastic losses in grantee funding amounts by limiting grantee losses to five percent in PY 2024, 10 percent in PY 2025 and 20 percent in PY 2026 compared to the grantee's PY 2023 funding level. Accordingly, for PY 2025, ETA will limit grantee funding losses to 10 percent of the grantee's PY 2023 funding amount after adjusting for the change in the PY 2025 funding appropriation amount. In PY 2027, all grantees will receive funding that reflects the full implementation of the 2014-2018 ACS data.

Funding Allotments. The WIOA Section 166 INA Program grantee allotments set forth in the Tables appended to this notice reflect the distribution resulting from the allotment formula described above. For purposes of illustrating the effects of the allotment formula and application of the hold-harmless process for the CSP and SYSP, columns 3 through 7 in Tables A and B show the PY 2023 and PY 2025 dollar amounts, and the percent difference between the PY 2023 and PY 2025 amounts with—and without—the hold-harmless provision. The hold-harmless for PY 2025 “holds” grantee losses to ten percent of their PY 2023 amount, however the last column in the tables show the hold-harmless loss to be slightly more than 10 percent (−10.1% for the CSP and −10.7% for the SYSP). This is due to the change in the appropriation amount and minor adjustments made to the funding formula between 2023 and 2025.

Susan Frazier,
Acting Assistant Secretary for Employment and Training, Labor.

Table A—U.S. Department of Labor Employment and Training Administration WIOA Section 166 CSP (Adult) Funding for Native Americans PY 2025 Funding Allotments
State | Grantee name | PY 2023 actual amount: $59,332,680 | PY 2025 amount without hold-harmless | % Difference without hold-harmless | PY 2025 amount with hold-harmless: $59,400,000 | % Difference with hold-harmless
AL | Inter-Tribal Council of Alabama | $315,100 | $290,444 | −7.8 | $290,444 | −7.8
AL | Poarch Band of Creek Indians | 101,019 | 84,818 | −16.0 | 90,865 | −10.1
AK | Aleutian-Pribilof Islands Association | 30,611 | 29,103 | −4.9 | 29,103 | −4.9
AK | Association of Village Council Presidents | 439,216 | 651,372 | 48.3 | 560,191 | 27.5
AK | Bristol Bay Native Association | 126,540 | 101,223 | −20.0 | 113,820 | −10.1
AK | Central Council of Tlingit and Haida Indian Tribes | 206,809 | 211,903 | 2.5 | 209,665 | 1.4
AK | Chugachmiut | 29,825 | 19,066 | −36.1 | 26,827 | −10.1
AK | Cook Inlet Tribal Council, Inc | 440,425 | 426,950 | −3.1 | 426,950 | −3.1
AK | Copper River Native Association | 20,038 | 14,885 | −25.7 | 18,024 | −10.1
AK | Kawerak Incorporated | 164,735 | 206,270 | 25.2 | 188,399 | 14.4
AK | Kenaitze Indian Tribe | 47,331 | 60,474 | 27.8 | 54,820 | 15.8
AK | Knik Tribe | 33,139 | 64,798 | 95.5 | 51,199 | 54.5
AK | Kodiak Area Native Association | 31,104 | 46,706 | 50.2 | 40,001 | 28.6
AK | Maniilaq Association | 123,384 | 178,989 | 45.1 | 155,089 | 25.7
AK | Metlakatla Indian Community | 19,954 | 25,086 | 25.7 | 22,878 | 14.7
AK | Orutsararmuit Native Council | 56,521 | 68,207 | 20.7 | 63,176 | 11.8
AK | Tanana Chiefs Conference | 310,126 | 278,269 | −10.3 | 278,952 | −10.1
AZ | American Indian Association of Tucson | 369,900 | 759,495 | 105.3 | 592,162 | 60.1
AZ | Colorado River Indian Tribes | 67,729 | 83,364 | 23.1 | 76,636 | 13.2
AZ | Gila River Indian Community | 558,320 | 682,338 | 22.2 | 628,963 | 12.7
AZ | Hopi Tribal Council | 237,765 | 227,150 | −4.5 | 227,150 | −4.5
AZ | Hualapai Tribe | 35,626 | 40,063 | 12.5 | 38,150 | 7.1
AZ | Inter Tribal Council of Arizona, Inc | 87,229 | 110,764 | 27.0 | 100,639 | 15.4
AZ | Navajo Nation | 6,668,340 | 5,191,520 | −22.1 | 5,998,062 | −10.1
AZ | Pascua Yaqui Tribe | 109,929 | 116,046 | 5.6 | 113,393 | 3.2
AZ | Phoenix Indian Center, Inc | 1,560,643 | 2,017,005 | 29.2 | 1,820,717 | 16.7
AZ | Quechan Indian Tribe | 36,754 | 24,191 | −34.2 | 33,060 | −10.1
AZ | Salt River Pima-Maricopa Indian Community | 92,607 | 159,753 | 72.5 | 130,906 | 41.4
AZ | San Carlos Apache Community College | 421,640 | 384,193 | −8.9 | 384,193 | −8.9
AZ | Tohono O'Odham Nation | 405,468 | 401,973 | −0.9 | 401,973 | −0.9
AZ | White Mountain Apache Tribe | 496,675 | 598,863 | 20.6 | 554,874 | 11.7
AR | American Indian Center of Arkansas, Inc | 348,621 | 362,298 | 3.9 | 356,341 | 2.2
CA | California Indian Manpower Consortium, Inc | 3,644,453 | 3,081,457 | −15.4 | 3,278,121 | −10.1
CA | Native American Health Center, Inc | 482,652 | 486,649 | 0.8 | 484,814 | 0.4
CA | Northern California Indian Development Council, Inc | 651,316 | 624,560 | −4.1 | 624,560 | −4.1
CA | Southern California American Indian Resource Center, Inc | 787,175 | 656,653 | −16.6 | 708,050 | −10.1
CA | Tule River Tribal Council | 134,104 | 143,009 | 6.6 | 139,153 | 3.8
CA | United American Indian Involvement | 1,796,930 | 1,417,748 | −21.1 | 1,616,307 | −10.1
CO | Denver Indian Center Inc | 679,888 | 890,920 | 31.0 | 800,162 | 17.7
CO | Ute Mountain Ute Tribe | 94,412 | 63,833 | −32.4 | 84,922 | −10.1
FL | Florida Governor's Council on Indian Affairs, Inc | 1,249,259 | 1,423,743 | 14.0 | 1,348,533 | 7.9
FL | Miccosukee Tribe of Indians | 130,079 | 184,761 | 42.0 | 208,320 | 60.1
HI | Alu Like, Inc | 1,439,886 | 1,270,021 | −11.8 | 1,295,152 | −10.1
ID | Nez Perce Tribe | 75,017 | 85,146 | 13.5 | 80,779 | 7.7
ID | Shoshone-Bannock Tribes, Inc | 194,870 | 194,221 | −0.3 | 194,221 | −0.3
IN | American Indian Center of Indiana, Inc | 279,420 | 0 | N/A | 0 | N/A
KS | United Tribes of Kansas and Southeast Nebraska, Inc | 218,214 | 278,266 | 27.5 | 252,433 | 15.7
LA | Inter-Tribal Council of Louisiana, Inc | 529,053 | 508,409 | −3.9 | 508,409 | −3.9
ME | Penobscot Indian Nation | 205,013 | 214,336 | 4.5 | 210,283 | 2.6
MA | Mashpee-Wampanoag Indian Tribal Council, Inc | 63,086 | 41,254 | −34.6 | 56,745 | −10.1
MI | Grand Traverse Band of Ottawa & Chippewa Indians | 33,712 | 36,059 | 7.0 | 35,043 | 3.9
MI | Inter-Tribal Council of Michigan, Inc | 101,148 | 95,245 | −5.8 | 95,245 | −5.8
MI | Little Traverse Bay Band of Odawa Indians | 149,352 | 131,385 | −12.0 | 134,340 | −10.1
MI | Michigan Indian Employment and Training Services, Inc | 348,385 | 335,133 | −3.8 | 335,133 | −3.8
MI | North American Indian Association of Detroit, Inc | 169,349 | 123,678 | −27.0 | 152,327 | −10.1
MI | Sault Ste. Marie Tribe of Chippewa Indians | 179,437 | 179,489 | 0.0 | 179,422 | 0.0
MI | Southeastern Michigan Indians. Inc | 80,107 | 87,340 | 9.0 | 84,215 | 5.1
MN | American Indian Opportunities, Inc | 279,855 | 201,080 | −28.1 | 251,724 | −10.1
MN | Bois Forte Reservation Tribal Council | 21,397 | 36,654 | 71.3 | 30,099 | 40.7
MN | Fond Du Lac Reservation | 208,761 | 193,987 | −7.1 | 193,987 | −7.1
MN | Leech Lake Band of Ojibwe | 48,017 | 43,789 | −8.8 | 43,789 | −8.8
MN | Mille Lacs Band of Ojibwe Indians | 57,963 | 55,652 | −4.0 | 55,652 | −4.0
MN | Minneapolis American Indian Center | 371,466 | 375,752 | 1.2 | 373,821 | 0.6
MN | Northwest Indian OIC | 113,000 | 144,706 | 28.1 | 131,068 | 16.0
MN | Red Lake Nation | 233,334 | 278,701 | 19.4 | 259,169 | 11.1
MN | White Earth Reservation Tribal Council | 126,695 | 146,136 | 15.3 | 137,759 | 8.7
MS | Mississippi Band of Choctaw Indians | 315,581 | 354,016 | 12.2 | 337,439 | 6.9
MO | American Indian Council | 775,847 | 767,511 | −1.1 | 767,511 | −1.1
MT | Assiniboine and Sioux Tribes | 287,147 | 229,325 | −20.1 | 258,284 | −10.1
MT | Blackfeet Tribal Business Council | 302,287 | 284,232 | −6.0 | 284,232 | −6.0
MT | Business Committee of the Chippewa Cree Tribe | 148,417 | 143,894 | −3.0 | 143,894 | −3.0
MT | Confederated Salish & Kootenai Tribes | 297,102 | 284,102 | −4.4 | 284,102 | −4.4
MT | Fort Belknap Community Council | 128,316 | 142,778 | 11.3 | 136,538 | 6.4
MT | Little Big Horn College | 172,998 | 164,156 | −5.1 | 164,156 | −5.1
MT | Montana United Indian Association | 360,673 | 316,720 | −12.2 | 324,419 | −10.1
MT | Northern Cheyenne Tribe | 224,872 | 205,548 | −8.6 | 205,548 | −8.6
NE | Omaha Tribe of Nebraska | 83,321 | 87,792 | 5.4 | 85,852 | 3.0
NE | Ponca Tribe of Nebraska | 299,801 | 270,183 | −9.9 | 270,183 | −9.9
NE | Winnebago Tribe of Nebraska | 47,076 | 61,425 | 30.5 | 55,254 | 17.4
NV | Inter-Tribal Council of Nevada | 297,620 | 502,797 | 68.9 | 414,647 | 39.3
NV | Las Vegas Indian Center, Inc | 200,867 | 421,354 | 109.8 | 326,655 | 62.6
NV | Reno Sparks Indian Colony | 17,865 | 33,844 | 89.4 | 26,981 | 51.0
NV | Shoshone-Paiute Tribes | 128,353 | 147,150 | 14.6 | 139,050 | 8.3
NM | Alamo Navajo School Board, Inc | 93,714 | 51,745 | −44.8 | 84,294 | −10.1
NM | Eight Northern Indian Pueblo Council | 77,153 | 61,787 | −19.9 | 69,398 | −10.1
NM | Five Sandoval Indian Pueblos, Inc | 161,080 | 169,810 | 5.4 | 166,022 | 3.1
NM | Jicarilla Apache Tribe | 64,942 | 73,719 | 13.5 | 69,935 | 7.7
NM | Mescalero Apache Tribe | 92,168 | 108,479 | 17.7 | 101,454 | 10.1
NM | National Indian Youth Council | 1,683,062 | 2,119,995 | 26.0 | 1,932,016 | 14.8
NM | Ohkay Owingeh | 28,041 | 30,891 | 10.2 | 29,661 | 5.8
NM | Pueblo of Acoma | 143,181 | 162,757 | 13.7 | 154,318 | 7.8
NM | Pueblo of Isleta | 41,957 | 78,370 | 86.8 | 62,729 | 49.5
NM | Pueblo of Laguna | 91,708 | 100,508 | 9.6 | 96,708 | 5.5
NM | Pueblo of Taos | 42,814 | 35,300 | −17.5 | 38,510 | −10.1
NM | Pueblo of Zuni | 299,760 | 307,870 | 2.7 | 304,315 | 1.5
NM | Ramah Navajo School Board, Inc | 94,734 | 138,020 | 45.7 | 119,415 | 26.1
NM | Santo Domingo Tribe | 105,332 | 71,300 | −32.3 | 94,744 | −10.1
NY | Native American Community Services of Erie & Niagara Counties, Inc | 385,997 | 309,205 | −19.9 | 347,197 | −10.1
NY | Seneca Nation of Indians | 250,201 | 214,264 | −14.4 | 225,051 | −10.1
NY | St. Regis Mohawk Tribe | 146,248 | 125,359 | −14.3 | 131,548 | −10.1
NC | Cumberland County Association for Indian People, Inc | 68,360 | 0 | N/A | 0 | N/A
NC | Eastern Band of Cherokee Indians | 122,507 | 90,838 | −25.9 | 110,193 | −10.1
NC | Guilford Native American Association | 82,393 | 123,007 | 49.3 | 105,552 | 28.1
NC | Lumbee Regional Development Association, Inc | 1,253,771 | 1,599,044 | 27.5 | 1,450,519 | 15.7
NC | North Carolina Commission of Indian Affairs | 376,895 | 920,523 | 144.2 | 834,737 | 121.5
ND | Spirit Lake Sioux Tribe | 164,222 | 174,363 | 6.2 | 169,969 | 3.5
ND | Standing Rock Sioux Tribe | 237,743 | 278,007 | 16.9 | 260,664 | 9.6
ND | Three Affiliated Tribes | 198,570 | 145,852 | −26.5 | 178,610 | −10.1
ND | Turtle Mountain Band of Chippewa Indians | 323,705 | 288,675 | −10.8 | 291,167 | −10.1
ND | United Tribes Technical College | 253,365 | 314,906 | 24.3 | 288,426 | 13.8
OH | North American Indian Cultural Center, Inc | 555,217 | 544,474 | −1.9 | 544,474 | −1.9
OK | Absentee Shawnee Tribe | 24,631 | 27,393 | 11.2 | 26,201 | 6.4
OK | Cherokee Nation of Oklahoma | 1,426,495 | 1,536,055 | 7.7 | 1,488,672 | 4.4
OK | Cheyenne Arapaho Tribes of Oklahoma | 170,817 | 140,252 | −17.9 | 153,646 | −10.1
OK | Chickasaw Nation | 390,478 | 269,704 | −30.9 | 351,228 | −10.1
OK | Choctaw Nation of Oklahoma | 627,190 | 504,955 | −19.5 | 564,146 | −10.1
OK | Citizen Potawatomi Nation | 459,030 | 514,140 | 12.0 | 490,369 | 6.8
OK | Comanche Tribe of Oklahoma | 166,817 | 147,212 | −11.8 | 150,049 | −10.1
OK | Creek Nation of Oklahoma | 784,469 | 913,929 | 16.5 | 858,162 | 9.4
OK | Inter-Tribal Council of Northeast Oklahoma | 80,864 | 87,337 | 8.0 | 84,538 | 4.5
OK | Kiowa Tribe of Oklahoma | 244,037 | 233,290 | −4.4 | 233,290 | −4.4
OK | Osage Nation | 105,854 | 79,692 | −24.7 | 95,214 | −10.1
OK | Otoe-Missouria Tribe | 35,730 | 25,598 | −28.4 | 32,139 | −10.1
OK | Pawnee Nation of Oklahoma | 34,038 | 30,495 | −10.4 | 30,617 | −10.1
OK | Ponca Tribe of Oklahoma | 89,222 | 79,976 | −10.4 | 80,253 | −10.1
OK | Tonkawa Tribe of Oklahoma | 68,101 | 49,579 | −27.2 | 61,256 | −10.1
OK | United Urban Indian Council, Inc | 397,348 | 310,539 | −21.8 | 357,407 | −10.1
OK | Wyandotte Nation | 118,868 | 106,464 | −10.4 | 106,919 | −10.1
OR | Confed. Tribes of the Umatilla Indian Reservation | 29,796 | 31,312 | 5.1 | 30,654 | 2.9
OR | Confederated Tribes of Siletz Indians | 477,612 | 538,470 | 12.7 | 512,227 | 7.2
OR | Confederated Tribes of Warm Springs | 139,804 | 165,385 | 18.3 | 154,369 | 10.4
PA | Council of Three Rivers American Indian Center, Inc | 1,021,751 | 1,326,973 | 29.9 | 1,315,575 | 28.8
RI | Rhode Island Indian Council, Inc | 2,218,737 | 1,982,746 | −10.6 | 1,995,714 | −10.1
SC | South Carolina Indian Development Council, Inc | 268,312 | 340,596 | 26.9 | 309,501 | 15.4
SD | Cheyenne River Sioux Tribe | 245,120 | 267,885 | 9.3 | 258,052 | 5.3
SD | Lower Brule Sioux Tribe | 61,636 | 51,557 | −16.4 | 55,440 | −10.1
SD | Oglala Sioux Tribe | 726,310 | 658,387 | −9.4 | 658,387 | −9.4
SD | Rosebud Sioux Tribe (Sicangu Nation) | 1,151,613 | 1,426,506 | 23.9 | 1,308,218 | 13.6
SD | Sisseton-Wahpeton Oyate | 136,403 | 168,312 | 23.4 | 154,581 | 13.3
SD | Yankton Sioux Tribe | 118,475 | 108,856 | −8.1 | 108,856 | −8.1
TN | Native American Indian Association, Inc | 253,515 | 293,067 | 15.6 | 276,026 | 8.9
TX | Alabama-Coushatta Indian Tribal Council | 889,917 | 886,977 | −0.3 | 886,977 | −0.3
TX | Dallas Inter-Tribal Center | 497,550 | 457,981 | −8.0 | 457,981 | −8.0
TX | Ysleta del Sur Pueblo | 712,821 | 723,687 | 1.5 | 718,847 | 0.8
UT | Indian Training & Education Center | 390,447 | 459,396 | 17.7 | 429,702 | 10.1
UT | Ute Indian Tribe | 129,842 | 107,158 | −17.5 | 116,790 | −10.1
VA | Mattaponi Pamunkey Monacan Consortium | 275,842 | 0 | N/A | 0 | N/A
WA | American Indian Community Center | 442,813 | 466,090 | 5.3 | 455,989 | 3.0
WA | Confederated Tribes & Bands of the Yakama Nation | 221,833 | 239,199 | 7.8 | 231,689 | 4.4
WA | Confederated Tribes of the Colville Reservation | 200,695 | 120,456 | −40.0 | 180,522 | −10.1
WA | Lummi Indian Business Council | 122,616 | 121,273 | −1.1 | 121,273 | −1.1
WA | Makah Tribal Council | 37,569 | 35,504 | −5.5 | 35,504 | −5.5
WA | South Puget Intertribal Planning Agency | 675,776 | 622,995 | −7.8 | 622,995 | −7.8
WA | Spokane Reservation | 43,942 | 43,508 | −1.0 | 43,508 | −1.0
WA | Suquamish Indian Tribe | 160,202 | 145,495 | −9.2 | 145,495 | −9.2
WA | The Tulalip Tribes | 48,677 | 27,939 | −42.6 | 43,784 | −10.1
WA | United Indians of All Tribes Foundation | 313,482 | 235,357 | −24.9 | 281,971 | −10.1
WI | Ho-Chunk Nation | 192,655 | 175,039 | −9.1 | 175,039 | −9.1
WI | Lac Courte Oreilles Tribal Governing Board | 187,265 | 246,022 | 31.4 | 220,753 | 17.9
WI | Lac Du Flambeau Band of Lake Superior Chippewa Indians, Inc | 46,345 | 67,547 | 45.7 | 58,434 | 26.1
WI | Menominee Indian Tribe of Wisconsin | 108,173 | 99,770 | −7.8 | 99,770 | −7.8
WI | Oneida Tribe of Indians of Wisconsin | 180,750 | 224,008 | 23.9 | 205,394 | 13.6
WI | Spotted Eagle, Inc | 238,834 | 131,468 | −45.0 | 214,826 | −10.1
WI | Stockbridge-Munsee Community | 61,051 | 58,262 | −4.6 | 58,262 | −4.6
WY | Eastern Shoshone Tribe | 142,057 | 106,626 | −24.9 | 127,777 | −10.1
WY | Northern Arapaho Business Council | 241,542 | 178,332 | −26.2 | 217,262 | −10.1
Total |  | 59,332,680 | 59,400,000 |  | 59,400,000 |

Table B—U.S. Department of Labor Employment and Training Administration WIOA Section 166 SYSP (Youth) Funding for Native Americans PY 2025 Funding Allotments
State | Grantee name | PY 2023 actual amount: $14,153,637 | PY 2025 amount without hold-harmless: $14,054,622 | % Difference without hold-harmless | PY 2025 amount with hold-harmless: $14,054,622 | % Difference with hold-harmless
AL | Inter-Tribal Council of Alabama | 5,209 | 5,166 | −0.8 | 5,166 | −0.8
AL | Poarch Band of Creek Indians | 0 | 0 | N/A | 0 | N/A
AK | Aleutian-Pribilof Islands Association | 12,338 | 12,299 | −0.3 | 12,299 | −0.3
AK | Association of Village Council Presidents | 168,894 | 305,011 | 80.6 | 248,311 | 47.0
AK | Bristol Bay Native Association | 49,352 | 38,372 | −22.2 | 44,072 | −10.7
AK | Central Council of Tlingit and Haida Indian Tribes | 69,915 | 73,301 | 4.8 | 71,680 | 2.5
AK | Chugachmiut | 6,032 | 21,400 | 254.8 | 15,040 | 149.3
AK | Cook Inlet Tribal Council, Inc | 131,057 | 141,683 | 8.1 | 136,879 | 4.4
AK | Copper River Native Association | 9,596 | 6,887 | −28.2 | 8,570 | −10.7
AK | Kawerak Incorporated | 61,690 | 95,931 | 55.5 | 81,606 | 32.3
AK | Kenaitze Indian Tribe | 23,305 | 22,876 | −1.8 | 22,876 | −1.8
AK | Knik Tribe | 19,192 | 25,828 | 34.6 | 23,029 | 20.0
AK | Kodiak Area Native Association | 9,596 | 16,726 | 74.3 | 13,754 | 43.3
AK | Maniilaq Association | 53,465 | 84,616 | 58.3 | 71,592 | 33.9
AK | Metlakatla Indian Community | 5,484 | 8,363 | 52.5 | 7,158 | 30.5
AK | Orutsararmuit Native Council | 16,451 | 27,057 | 64.5 | 22,629 | 37.6
AK | Tanana Chiefs Conference | 116,526 | 96,669 | −17.0 | 104,059 | −10.7
AZ | American Indian Association of Tucson | 0 | 0 | N/A | 0 | N/A
AZ | Colorado River Indian Tribes | 32,901 | 69,611 | 111.6 | 54,360 | 65.2
AZ | Gila River Indian Community | 216,601 | 225,807 | 4.3 | 221,315 | 2.2
AZ | Hopi Tribal Council | 120,638 | 115,609 | −4.2 | 115,609 | −4.2
AZ | Hualapai Tribe | 20,563 | 14,513 | −29.4 | 18,363 | −10.7
AZ | Inter Tribal Council of Arizona, Inc | 39,208 | 49,687 | 26.7 | 45,238 | 15.4
AZ | Navajo Nation | 3,144,826 | 2,740,427 | −12.9 | 2,808,366 | −10.7
AZ | Pascua Yaqui Tribe | 56,207 | 74,039 | 31.7 | 66,502 | 18.3
AZ | Phoenix Indian Center, Inc | 0 | 0 | N/A | 0 | N/A
AZ | Quechan Indian Tribe | 17,822 | 23,614 | 32.5 | 21,167 | 18.8
AZ | Salt River Pima-Maricopa Indian Community | 53,465 | 52,393 | −2.0 | 52,393 | −2.0
AZ | San Carlos Apache Community College | 227,568 | 184,237 | −19.0 | 203,221 | −10.7
AZ | Tohono O'Odham Nation | 228,939 | 235,892 | 3.0 | 232,290 | 1.5
AZ | White Mountain Apache Tribe | 272,808 | 216,706 | −20.6 | 243,620 | −10.7
AR | American Indian Center of Arkansas, Inc | 0 | 0 | N/A | 0 | N/A
CA | California Indian Manpower Consortium, Inc | 114,058 | 140,207 | 22.9 | 129,053 | 13.1
CA | Native American Health Center, Inc | 0 | 0 | N/A | 0 | N/A
CA | Northern California Indian Development Council, Inc | 63,335 | 74,039 | 16.9 | 69,420 | 9.6
CA | Southern California American Indian Resource Center, Inc | 0 | 0 | N/A | 0 | N/A
CA | Tule River Tribal Council | 8,225 | 21,892 | 166.2 | 16,227 | 97.3
CA | United American Indian Involvement | 0 | 0 | N/A | 0 | N/A
CO | Denver Indian Centerm Inc | 0 | 0 | N/A | 0 | N/A
CO | Ute Mountain Ute Tribe | 23,305 | 16,726 | −28.2 | 20,812 | −10.7
FL | Florida Governor's Council on Indian Affairs, Inc | 0 | 0 | N/A | 0 | N/A
FL | Miccosukee Tribe of Indians | 5,758 | 12,791 | 122.1 | 14,936 | 159.4
HI | Alu Like, Inc | 1,916,507 | 1,834,495 | −4.3 | 1,834,495 | −4.3
ID | Nez Perce Tribe | 15,902 | 31,731 | 99.5 | 25,150 | 58.1
ID | Shoshone-Bannock Tribes, Inc | 58,948 | 44,522 | −24.5 | 52,642 | −10.7
IN | American Indian Center of Indiana, Inc | 0 | 0 | N/A | 0 | N/A
KS | United Tribes of Kansas and Southeast Nebraska, Inc | 10,693 | 10,823 | 1.2 | 10,735 | 0.4
LA | Inter-Tribal Council of Louisiana, Inc | 4,113 | 1,968 | −52.2 | 3,673 | −10.7
ME | Penobscot Indian Nation | 25,773 | 17,218 | −33.2 | 23,015 | −10.7
MA | Mashpee-Wampanoag Indian Tribal Council, Inc | 0 | 0 | N/A | 0 | N/A
MI | Grand Traverse Band of Ottawa & Chippewa Indians | 0 | 5,411 | N/A | 5,411 | N/A
MI | Inter-Tribal Council of Michigan, Inc | 30,160 | 45,998 | 52.5 | 39,367 | 30.5
MI | Little Traverse Bay Band of Odawa Indians | 0 | 0 | N/A | 0 | N/A
MI | Michigan Indian Employment and Training Services, Inc | 0 | 0 | N/A | 0 | N/A
MI | North American Indian Association of Detroit, Inc | 0 | 0 | N/A | 0 | N/A
MI | Sault Ste. Marie Tribe of Chippewa Indians | 20,015 | 32,961 | 64.7 | 27,556 | 37.7
MI | Southeastern Michigan Indians. Inc | 0 | 0 | N/A | 0 | N/A
MN | American Indian Opportunities, Inc | 0 | 0 | N/A | 0 | N/A
MN | Bois Forte Reservation Tribal Council | 9,322 | 8,363 | −10.3 | 8,363 | −10.3
MN | Fond Du Lac Reservation | 18,644 | 33,207 | 78.1 | 27,139 | 45.6
MN | Leech Lake Band of Ojibwe | 54,562 | 57,313 | 5.0 | 56,003 | 2.6
MN | Mille Lacs Band of Ojibwe Indians | 24,402 | 11,561 | −52.6 | 21,791 | −10.7
MN | Minneapolis American Indian Center | 0 | 0 | N/A | 0 | N/A
MN | Northwest Indian OIC | 0 | 0 | N/A | 0 | N/A
MN | Red Lake Nation | 86,366 | 93,471 | 8.2 | 90,263 | 4.5
MN | White Earth Reservation Tribal Council | 56,207 | 56,083 | −0.2 | 56,083 | −0.2
MS | Mississippi Band of Choctaw Indians | 69,641 | 114,871 | 64.9 | 95,987 | 37.8
MO | American Indian Council | 9,596 | 4,428 | −53.9 | 8,570 | −10.7
MT | Assiniboine and Sioux Tribes | 141,202 | 101,342 | −28.2 | 126,095 | −10.7
MT | Blackfeet Tribal Business Council | 130,235 | 127,170 | −2.4 | 127,170 | −2.4
MT | Business Committee of the Chippewa Cree Tribe | 39,756 | 68,874 | 73.2 | 56,733 | 42.7
MT | Confederated Salish & Kootenai Tribes | 142,573 | 122,496 | −14.1 | 127,319 | −10.7
MT | Fort Belknap Community Council | 52,094 | 54,361 | 4.4 | 53,259 | 2.2
MT | Little Big Horn College | 90,205 | 72,317 | −19.8 | 80,554 | −10.7
MT | Montana United Indian Association | 0 | 0 | N/A | 0 | N/A
MT | Northern Cheyenne Tribe | 101,446 | 71,825 | −29.2 | 90,592 | −10.7
NE | Omaha Tribe of Nebraska | 47,981 | 39,848 | −17.0 | 42,848 | −10.7
NE | Ponca Tribe of Nebraska | 0 | 0 | N/A | 0 | N/A
NE | Winnebago Tribe of Nebraska | 21,934 | 21,892 | −0.2 | 21,892 | −0.2
NV | Inter-Tribal Council of Nevada | 50,175 | 75,269 | 50.0 | 64,755 | 29.1
NV | Las Vegas Indian Center, Inc | 0 | 0 | N/A | 0 | N/A
NV | Reno Sparks Indian Colony | 9,596 | 9,593 | 0.0 | 9,564 | −0.3
NV | Shoshone-Paiute Tribes | 15,080 | 12,299 | −18.4 | 13,466 | −10.7
NM | Alamo Navajo School Board, Inc | 50,723 | 22,138 | −56.4 | 45,296 | −10.7
NM | Eight Northern Indian Pueblo Council | 27,966 | 32,469 | 16.1 | 30,522 | 9.1
NM | Five Sandoval Indian Pueblos, Inc | 95,688 | 77,729 | −18.8 | 85,451 | −10.7
NM | Jicarilla Apache Tribe | 28,789 | 30,993 | 7.7 | 29,991 | 4.2
NM | Mescalero Apache Tribe | 63,061 | 58,051 | −7.9 | 58,051 | −7.9
NM | National Indian Youth Council | 0 | 0 | N/A | 0 | N/A
NM | Ohkay Owingeh | 13,709 | 15,005 | 9.5 | 14,426 | 5.2
NM | Pueblo of Acoma | 31,531 | 20,170 | −36.0 | 28,157 | −10.7
NM | Pueblo of Isleta | 12,064 | 44,030 | 265.0 | 30,803 | 155.3
NM | Pueblo of Laguna | 38,385 | 31,977 | −16.7 | 34,278 | −10.7
NM | Pueblo of Taos | 19,192 | 10,823 | −43.6 | 17,139 | −10.7
NM | Pueblo of Zuni | 132,977 | 127,170 | −4.4 | 127,170 | −4.4
NM | Ramah Navajo School Board, Inc | 31,531 | 30,747 | −2.5 | 30,747 | −2.5
NM | Santo Domingo Tribe | 46,610 | 42,554 | −8.7 | 42,554 | −8.7
NY | Native American Community Services of Erie & Niagara Counties, Inc | 3,290 | 15,005 | 356.0 | 10,161 | 208.8
NY | Seneca Nation of Indians | 32,901 | 61,494 | 86.9 | 49,592 | 50.7
NY | St. Regis Mohawk Tribe | 23,305 | 45,014 | 93.1 | 35,983 | 54.4
NC | Cumberland County Association for Indian People, Inc | 0 | 0 | N/A | 0 | N/A
NC | Eastern Band of Cherokee Indians | 58,948 | 58,051 | −1.5 | 58,051 | −1.5
NC | Guilford Native American Association | 0 | 0 | N/A | 0 | N/A
NC | Lumbee Regional Development Association, Inc | 0 | 0 | N/A | 0 | N/A
NC | North Carolina Commission of Indian Affairs | 0 | 0 | N/A | 0 | N/A
ND | Spirit Lake Sioux Tribe | 76,770 | 78,467 | 2.2 | 77,521 | 1.0
ND | Standing Rock Sioux Tribe | 127,493 | 130,368 | 2.3 | 128,773 | 1.0
ND | Three Affiliated Tribes | 57,577 | 50,179 | −12.8 | 51,417 | −10.7
ND | Turtle Mountain Band of Chippewa Indians | 131,606 | 106,754 | −18.9 | 117,525 | −10.7
ND | United Tribes Technical College | 0 | 0 | N/A | 0 | N/A
OH | North America Indian Cultural Center, Inc | 0 | 0 | N/A | 0 | N/A
OK | Absentee Shawnee Tribe | 13,435 | 16,234 | 20.8 | 15,036 | 11.9
OK | Cherokee Nation of Oklahoma | 692,575 | 874,447 | 26.3 | 797,192 | 15.1
OK | Cheyenne Arapaho Tribes of Oklahoma | 106,930 | 73,055 | −31.7 | 95,489 | −10.7
OK | Chickasaw Nation | 208,101 | 173,906 | −16.4 | 185,837 | −10.7
OK | Choctaw Nation of Oklahoma | 298,854 | 274,756 | −8.1 | 274,756 | −8.1
OK | Citizen Potawatomi Nation | 298,580 | 413,733 | 38.6 | 365,267 | 22.3
OK | Comanche Tribe of Oklahoma | 74,028 | 45,506 | −38.5 | 66,108 | −10.7
OK | Creek Nation of Oklahoma | 364,657 | 473,505 | 29.8 | 427,429 | 17.2
OK | Inter-Tribal Council of Northeast Oklahoma | 27,692 | 40,094 | 44.8 | 34,889 | 26.0
OK | Kiowa Tribe of Oklahoma | 162,039 | 123,972 | −23.5 | 144,703 | −10.7
OK | Osage Nation | 53,465 | 20,170 | −62.3 | 47,745 | −10.7
OK | Otoe-Missouria Tribe | 17,273 | 6,641 | −61.6 | 15,425 | −10.7
OK | Pawnee Nation of Oklahoma | 15,080 | 21,892 | 45.2 | 19,033 | 26.2
OK | Ponca Tribe of Oklahoma | 57,303 | 44,276 | −22.7 | 51,173 | −10.7
OK | Tonkawa Tribe of Oklahoma | 28,789 | 16,726 | −41.9 | 25,709 | −10.7
OK | United Urban Indian Council, Inc | 204,263 | 161,361 | −21.0 | 182,409 | −10.7
OK | Wyandotte Nation | 0 | 0 | N/A | 0 | N/A
OR | Confed. Tribes of the Umatilla Indian Reservation | 15,080 | 10,085 | −33.1 | 13,466 | −10.7
OR | Confederated Tribes of Siletz Indians | 1,097 | 9,347 | 752.3 | 5,940 | 441.6
OR | Confederated Tribes of Warm Springs | 42,498 | 66,168 | 55.7 | 56,266 | 32.4
PA | Council of Three Rivers American Indian Center, Inc | 0 | 0 | N/A | 0 | N/A
RI | Rhode Island Indian Council, Inc | 9,322 | 5,903 | −36.7 | 8,325 | −10.7
SC | South Carolina Indian Development Council, Inc | 2,742 | 5,657 | 106.3 | 4,446 | 62.1
SD | Cheyenne River Sioux Tribe | 145,315 | 112,165 | −22.8 | 129,768 | −10.7
SD | Lower Brule Sioux Tribe | 20,563 | 33,207 | 61.5 | 27,925 | 35.8
SD | Oglala Sioux Tribe | 426,347 | 406,846 | −4.6 | 406,846 | −4.6
SD | Rosebud Sioux Tribe (Sicangu Nation) | 264,582 | 299,354 | 13.1 | 284,160 | 7.4
SD | Sisseton-Wahpeton Oyate | 60,319 | 69,365 | 15.0 | 65,440 | 8.5
SD | Yankton Sioux Tribe | 54,836 | 60,018 | 9.5 | 57,704 | 5.2
TN | Native American Indian Association, Inc | 0 | 0 | N/A | 0 | N/A
TX | Alabama-Coushatta Indian Tribal Council | 1,097 | 3,198 | 191.6 | 2,327 | 112.2
TX | Dallas Inter-Tribal Center | 0 | 0 | N/A | 0 | N/A
TX | Ysleta del Sur Pueblo | 17,822 | 36,159 | 102.9 | 28,536 | 60.1
UT | Indian Training & Education Center | 6,032 | 1,476 | −75.5 | 5,387 | −10.7
UT | Ute Indian Tribe | 61,690 | 59,772 | −3.1 | 59,772 | −3.1
VA | Mattaponi Pamunkey Monacan Consortium | 0 | 0 | N/A | 0 | N/A
WA | American Indian Community Center | 18,644 | 28,533 | 53.0 | 24,394 | 30.8
WA | Confederated Tribes & Bands of the Yakama Nation | 112,139 | 111,182 | −0.9 | 111,182 | −0.9
WA | Confederated Tribes of the Colville Reservation | 50,723 | 36,159 | −28.7 | 45,296 | −10.7
WA | Lummi Indian Business Council | 27,418 | 23,368 | −14.8 | 24,484 | −10.7
WA | Makah Tribal Council | 13,709 | 11,069 | −19.3 | 12,242 | −10.7
WA | South Puget Intertribal Planning Agency | 98,704 | 91,995 | −6.8 | 91,995 | −6.8
WA | Spokane Reservation | 24,676 | 11,807 | −52.2 | 22,036 | −10.7
WA | Suquamish Indian Tribe | 2,742 | 984 | −64.1 | 2,448 | −10.7
WA | The Tulalip Tribes | 21,934 | 13,529 | −38.3 | 19,588 | −10.7
WA | United Indians of All Tribes Foundation | 0 | 0 | N/A | 0 | N/A
WI | Ho-Chunk Nation | 4,935 | 11,807 | 139.2 | 8,956 | 81.5
WI | Lac Courte Oreilles Tribal Governing Board | 61,416 | 58,788 | −4.3 | 58,788 | −4.3
WI | Lac Du Flambeau Band of Lake Superior Chippewa Indians, Inc | 12,338 | 28,533 | 131.3 | 21,812 | 76.8
WI | Menominee Indian Tribe of Wisconsin | 50,723 | 40,340 | −20.5 | 45,296 | −10.7
WI | Oneida Tribe of Indians of Wisconsin | 16,451 | 32,715 | 98.9 | 25,952 | 57.8
WI | Spotted Eagle, Inc | 0 | 0 | N/A | 0 | N/A
WI | Stockbridge-Munsee Community | 3,838 | 2,460 | −35.9 | 3,428 | −10.7
WY | Eastern Shoshone Tribe | 36,740 | 21,892 | −40.4 | 32,809 | −10.7
WY | Northern Arapaho Business Council | 82,528 | 49,195 | −40.4 | 73,698 | −10.7
Total |  | 14,153,637 | 14,054,622 |  | 14,054,622 |

[FR Doc. 2025-11448 Filed 6-20-25; 8:45 am]

BILLING CODE 4510-FN-P